DEPARTMENT OF TRANSPORTATION

Federal Aviation Administration

Notice of Intent To Prepare an Environmental Impact Statement and To Conduct Environmental Scoping for Improvements to the Gary/Chicago Airport in Gary, IN

AGENCY: Federal Aviation Administration, DOT.

ACTION: Corrected notice to prepare an Environmental Impact Statement and to hold a public scoping meeting.

SUMMARY: The Federal Aviation Administration (FAA) is issuing this corrected notice to advise the public that an Environmental Impact Statement or other appropriate environmental documentation will be prepared to assess certain improvements to the Gary/Chicago Airport. This corrected notice changes the comment receipt date from December 19, 2001 to December 27, 2001 and also changes the scoping meeting date from December 5, 2001 to December 13, 2001. The environmental review will assess improvements associated with the existing air carrier Runway 12-30, including railroad relocation and improved runway safety areas; an extension of the existing air carrier Runway 12-30; expansion of the existing terminal site; and analysis of sites for new passenger terminal and air cargo areas. A public scoping process will be held in order that all significant issues related to the proposed actions are identified.

FOR FURTHER INFORMATION CONTACT: Michael W. MacMullen, Airports Environmental Program Manager, Federal Aviation Administration, Chicago Airports District Office, 2300 East Devon Avenue, Des Plaines, Illinois 60018. Mr. MacMullen can be contacted at (847) 294-7522 (voice), (847) 294-7046 (facsimile).

SUPPLEMENTARY INFORMATION: At the request of the Gary/Chicago Airport Authority, the FAA is preparing an Environmental Impact Statement or other appropriate environmental documentation. The review will address specific improvements of Gary/Chicago Airport as identified during the 2001 Airport Master Plan process and shown on the 2001 Airport Layout Plan. The following improvements have been grouped in four categories and are identified as ripe for review and decision: Improvements associated with Existing Runway 12-30, the primary air carrier runway at the airport, relocate E.J. & E. Railroad, acquire land northwest of airport to allow for modifications to runway safety area, relocate airside perimeter roadway, relocate Runway 12-30 navaids, improve Runway Safety Area for Runway 12, relocate Runway 12 threshold to remove prior displacement, and acquire land southeast of airport, located within or immediately adjacent to runway protection zone; Extension of Runway 12-30, including acquire land or rights northwest of existing runway, relocate/bury power lines, relocate airside perimeter roadway, extend Runway 12-30 (1,900 feet by 150 feet), relocate Runway 12-30 navaids, displace Runway 30 threshold using declared distance standards, extend parallel taxiway A to new end of Runway 12, construct deicing hold pads on Taxiway A at Runway 12 and Runway 30, and develop two high-speed exit taxiways; Expansion of existing passenger terminal to accommodate projected demands; and analysis of sites adjacent to extended runway for aviation related development, including new passenger terminal and air cargo areas.

The purpose and need for these improvements will be reviewed in the environmental documentation. All reasonable alternatives will be considered including the no-action alternative.

Copies of a scoping document with additional detail can be obtained by contacting the FAA informational contact person identified above. Federal, State, and local agencies and other interested parties are invited to make comments and suggestions to ensure that the full range of issues related to these proposed actions are addressed and all significant issues identified. The FAA informational contact person identified above should receive these comments and suggestions by December 27, 2001.

Public Scoping Meeting: To facilitate receipt of comments, two public scoping meetings will be held on December 13, 2001 at the Gary/Chicago Airport, 6001 Industrial Highway, Gary, Indiana. The first meeting will be held between 10:00 AM and 2:00 PM for Federal, State, and local agencies in the administrative offices. The second meeting will be held from 3:00 pm to 7:00 pm for other interested parties in the passenger terminal facility.

Issued in Des Plaines, Illinois, on November 7, 2001.
Philip M. Smithmeyer,
Manager, Chicago Airports District Office, Great Lakes Region.

[FR Doc. 01-28677 Filed 11-15-01; 8:45 am]

BILLING CODE 4010-13-M